DEPARTMENT OF STATE

[Public Notice: 9200]

Notice of Receipt of Upland Pipeline, LLC's Application for a Presidential Permit To Construct, Connect, Operate, and Maintain Pipeline Facilities on the Border of the United States and Canada

AGENCY: Department of State.

ACTION: Notice.

SUMMARY: Notice is hereby given that the Department of State (DOS) has received an application from Upland Pipeline, LLC (“Upland”) for a Presidential Permit authorizing the construction, connection, operation, and maintenance of pipeline facilities for the export of crude oil. If the application is approved, the proposed facilities will transport crude oil from the Williston Basin region in North Dakota across the U.S.-Canadian border near Burke County, North Dakota, for onward transportation to refineries in Canada and the eastern United States.

Upland is a limited liability corporation organized under the laws of the State of Delaware. The ultimate parent corporation of Upland is TransCanada Corporation (“TransCanada”). TransCanada is a major energy infrastructure firm whose assets include approximately 35,500 miles of natural gas pipelines and a 2,600-mile petroleum pipeline. Upland plans to enter into a development, management, and operations agreement with TransCanada Oil Pipeline Operations, Inc., a subsidiary of TransCanada, to provide operating services for the project.

Under E.O. 13337, the Secretary of State is designated and empowered to receive all applications for Presidential Permits for the construction, connection, operation, or maintenance, at the borders of the United States, of facilities for the exportation or importation of liquid petroleum, petroleum products, or other non-gaseous fuels to or from a foreign country. The Department of State has the responsibility to determine whether issuance of a new Presidential Permit for construction, connection, operation, and maintenance of the proposed Upland pipeline border facilities would serve the U.S. national interest.

The Department will conduct an environmental review consistent with the National Environmental Policy Act of 1969. The Department will provide more information on the review process in a future Federal Register notice.

Upland's application is available at: http://www.state.gov/e/enr/applicant/applicants/index.htm

FOR FURTHER INFORMATION CONTACT: Acting Director, Energy Resources Bureau, Energy Diplomacy (ENR/EDP/EWA) United States Department of State, 2201 C St. NW., Suite 4843, Washington, DC 20520.

Dated: April 27, 2015.
Chris Davy,
Acting Director, Energy Resources Bureau, Energy Diplomacy (ENR/EDP/EWA), Bureau of Energy Resources, U.S. Department of State.

[FR Doc. 2015-18208 Filed 7-23-15; 8:45 am]

BILLING CODE 4710-07-P